DEPARTMENT OF HEALTH AND HUMAN SERVICES

Centers for Disease Control and Prevention

[60Day-10-10BU]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Case Studies of Communities and States Funded under Community Activities under the Communities Putting Prevention to Work Initiative—New—National Center for Chronic Disease Prevention and Health Promotion (NCCDPHP), Centers for Disease Control and Prevention (CDC).

Background and Brief Description

The Centers for Disease Control and Prevention (CDC) is the primary Federal agency for protecting health and promoting quality of life through the prevention and control of disease, injury, and disability. CDC is committed to programs that reduce the health and economic consequences of the leading causes of death and disability, thereby ensuring a long, productive, healthy life for all people.

Chronic diseases such as cancer, heart disease, and diabetes are among the leading causes of death and disability in the United States. Chronic diseases account for 70% of all deaths in the U.S., and cause major limitations in daily living for almost one out of 10 Americans. Although chronic diseases are among the most common and costly health problems, they are also among the most preventable. Adopting healthy behaviors such as eating nutritious foods, being physically active and avoiding tobacco use can prevent or control the devastating effects of these diseases.

The American Recovery and Reinvestment Act of 2009 (the “Recovery Act”) allotted $650 million to the Department of Health and Human Services (HHS) to support evidence-based prevention and wellness strategies. The cornerstone of the initiative is the Communities Putting Prevention to Work (CPPW) Community Program, administered by the Centers for Disease Control and Prevention (CDC). Through this program, all states and territories, and approximately 35-45 communities, will receive cooperative agreement funding to implement evidence-based community approaches to chronic disease prevention over a 24-month period.

Funded recipients will work with partners such as local and state health departments and other governmental agencies, health centers, schools, businesses, community and faith-based organizations, academic institutions, health care, mental health/substance abuse organizations, health plans, and others to create policies, systems, and environments that promote: (1) increased levels of physical activity, improved nutrition, and decreased prevalence of overweight/obesity; and (2) decreased tobacco use and decreased exposure to secondhand smoke. Each CPPW-funded state or community will choose to emphasize prevention objectives related to physical activity and nutrition, or tobacco. Toward that end, each funded recipient has selected strategies for implementing change from each of five categories involving media, access, price, point of purchase decision, and support services (MAPPS). Applicants for CPPW funding selected their approaches from a reference set of evidence-based strategies provided by CDC.

CDC proposes to collect information from a subset of CPPW awardees to gain insight into the factors and variables that facilitate or hinder the successful implementation of these strategies and the effective creation of the desired policy, system, and environmental changes. CDC plans to conduct intensive case studies of six CPPW-funded states and 15 CPPW-funded communities. The case study sites will be selected to include a mix of state or community characteristics related to population density, geographic region, and targeted population. Case study information will be collected by conducting personal interviews with approximately 20 key informants at each of the 21 CPPW-funded sites. Respondents at each site will include project management (5), project staff (5), community partners (5), and policy makers/community decision makers (5). Information will be collected at the beginning of the CPPW funding period and again approximately 18 months post-award. OMB approval is requested for two years.

The proposed information collection is one component of a larger evaluation plan for states and communities that receive Recovery Act funding through the CPPW initiative. Participation is required as a condition of receiving the cooperative agreement.

The case study information to be collected will assist the Federal government, state and local governments, and communities in planning future strategies designed to promote sustainable policy, systems and environmental changes that improve public health. Understanding the key variables and contextual factors that inhibit or accelerate successful implementation of these strategies will allow states and communities to anticipate such issues in advance, adapt their environment and context so it is more supportive, or choose only strategies that seem to map well to their current environment and context. As a result of the CPPW program, powerful models of success are expected to emerge that can be replicated in other states and communities.

The long-term goals of the CPPW are to modify the environmental determinants of risk factors for chronic diseases, prevent or delay chronic diseases, promote wellness in children and adults, and provide positive, sustainable health change in communities.

There are no costs to respondents other than their time.

Estimated Annualized Burden Hours
Type of respondent | Number of respondents | Number of responses per respondent | Average burden per response (in hours) | Total burden (in hours)
CPPW Awardees, Community Partners, and Community Decision Makers | 420 | 1 | 2.5 | 1,050

Dated: March 3, 2010.
Maryam I. Daneshvar,
Acting Reports Clearance Officer, Centers for Disease Control and Prevention.

[FR Doc. 2010-5157 Filed 3-9-10; 8:45 am]

BILLING CODE 4163-18-P